DEPARTMENT OF HEALTH AND HUMAN SERVICES

National Institutes of Health

National Center for Research Resources; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel, CTSA Revision.

Date: September 14-15, 2011.

Time: 10 a.m. to 4 p.m.

Agenda: To review and evaluate grant applications.

Place: National Institutes of Health/NCRR/OR, Democracy 1, 6701 Democracy Blvd., 1064, Bethesda, MD. (Virtual Meeting.)

Contact Person: Guo Zhang, Ph.D., Scientific Review Officer, Office of Review, National Center for Research Resources, National Institutes of Health, 6701 Democracy Blvd., DEM. 1, Room 1064, MSC 4874, Bethesda, MD 20892-4874. 301-435-0812. zhanggu@mail.nih.gov.

Name of Committee: National Center for Research Resources Special Emphasis Panel, Science Education Partnership Award (SEPA).

Date: October 5-6, 2011.

Time: 8 a.m. to 5 p.m.

Agenda: To review and evaluate grant applications.

Place: Residence Inn Bethesda Downtown, 7335 Wisconsin Avenue, Bethesda, MD 20814.

Contact Person: Bonnie Dunn, Ph.D., Scientific Review Officer, Office of Review, National Center for Research Resources, National Institutes of Health, 6701 Democracy Blvd., 1 Dem. Blvd., Rm. 1074, Bethesda, MD 20892-4874. 301-435-0824. dunnbo@mail.nih.gov.

Name of Committee: National Center for Research Resources Initial Review Group, Comparative Medicine Review Committee, Comparative Medicine Review Committee.

Date: October 20-21, 2011.

Time: 8 a.m. to 5 p.m.

Agenda: To review and evaluate grant applications.

Place: Hilton Rockville, 1750 Rockville Pike, Rockville, MD 20852.

Contact Person:Sheri A. Hild, Ph.D., Scientific Review Officer, National Institutes of Health, National Center for Research Resources, Office of Review, 6701 Democracy Blvd, Rm 1082, Bethesda, MD 20892. 301-435-0811. hildsa@mail.nih.gov.

(Catalogue of Federal Domestic Assistance Program Nos. 93.306, Comparative Medicine; 93.333, Clinical Research; 93.371, Biomedical Technology; 93.389, Research Infrastructure; 93.306, 93.333, 93.702, ARRA Related Construction Awards, National Institutes of Health, HHS)

Dated: August 15, 2011.
Jennifer S. Spaeth,
Director, Office of Federal Advisory Committee Policy.

[FR Doc. 2011-21231 Filed 8-18-11; 8:45 am]

BILLING CODE 4140-01-P